FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 940. Interested parties may submit comments on an agreement to the Secretary, Federal Maritime Commission, Washington, DC 20573, within 10 days of the date this notice appears in the Federal Register.

Agreement No.: 011441-005.

Title: NYK/WWL Joint Service Contract Agreement.

Parties: Wallenius Wilhelmsen Lines AS, Nippon Yusen Kaisha.

Synopsis: The proposed amendment transforms the agreement from a joint service arrangement to a cooperative working arrangement under which the parties may jointly negotiate, enter, and administer service contracts.

Agreement No.: 011689-003.

Title: Zim/CSCL Slot Charter Agreement.

Parties: Zim Israel Navigation Company Ltd., China Shipping Container Lines Co. Ltd.

Synopsis: The proposed agreement modification expands the geographic scope of the agreement to include U.S. Atlantic ports and Canadian ports, on the one hand, and generally ports in Southeast Asia, the Indian Subcontinent, and the Mediterranean, on the other hand; extends the termination date of the agreement; and revises the parties' slot allocations.

Agreement No.: 201127.

Title: Philadelphia/Pasha Pier 96-98 Agreement.

Parties: Philadelphia Regional Port Authority, The Pasha Group, t/a Pasha Auto Warehousing.

Synopsis: The agreement is a re-stated and amended lease of property at the Packer Avenue Marine Terminal.

By Order of the Federal Maritime Commission.
Dated: February 1, 2002.
Bryant L. VanBrakle,
Secretary.

[FR Doc. 02-2889 Filed 2-6-02; 8:45 am]

BILLING CODE 6730-01-P